Title 3—

The President

Proclamation 10834 of October 8, 2024

Leif Erikson Day, 2024

By the President of the United States of America

A Proclamation

On Leif Erikson Day, we celebrate the history and heritage of Nordic communities in the United States, whose contributions and cultures have helped shape our Nation.

Many believe that roughly a millennium ago, Leif Erikson—a Norse explorer—and his crew were the first Europeans to reach the shores of North America. His spirit of adventure, curiosity, and resilience would inspire generations of Danes, Finns, Icelanders, Norwegians, and Swedes to sail across an ocean and begin new lives in America. These immigrants built bustling homes and enriched their communities, supporting and realizing the American Dream. They fought for our freedoms in the military; built new churches, businesses, and schools; and spearheaded social movements. Today, Nordic communities continue to enrich the fabric of the Nation.

Nordic-American communities in the United States are foundational to our partnership and friendship with our Nordic Allies and their people. These nations share our vision for a world based on freedom, security, and opportunities for all. Together, we are working in lockstep to tackle the climate crisis and pioneer the next generation of technology that will power everyone's economies. We are also standing with the brave people of Ukraine as they defend themselves against Russia's brutal assault. I am proud that the United States supported the ratification process for Finland to join NATO, which was the fastest ratification in history. And I was honored to welcome Sweden as NATO's 32nd Ally earlier this year. Together, I know that we will continue to stand for freedom and democracy for generations to come.

Today, may we celebrate the important contributions and vibrant cultures of Nordic Americans to our Nation. And may we continue the work that so many Nordic communities in this country began: ensuring every American has an opportunity to reach the American Dream.

To honor Leif Erikson, son of Iceland and grandson of Norway, and to celebrate Nordic-American heritage, the Congress, by joint resolution (Public Law 88-566) approved on September 2, 1964, has authorized the President of the United States to proclaim October 9 of each year as “Leif Erikson Day.”

NOW, THEREFORE, I, JOSEPH R. BIDEN JR., President of the United States of America, do hereby proclaim October 9, 2024, as Leif Erikson Day. I call upon all Americans to celebrate the contributions of Nordic Americans to our Nation with appropriate ceremonies, activities, and programs.

IN WITNESS WHEREOF, I have hereunto set my hand this eighth day of October, in the year of our Lord two thousand twenty-four, and of the Independence of the United States of America the two hundred and forty-ninth.

[FR Doc. 2024-23812

Filed 10-10-24; 11:15 am]

Billing code 3395-F4-P